DEPARTMENT OF COMMERCE

National Oceanic and Atmospheric Administration

[I.D. 011805E]

New England Fishery Management Council; Habitat Oversight Committee; Public Meeting

AGENCY: National Marine Fisheries Service (NMFS), National Oceanic and Atmospheric Administration (NOAA), Commerce

ACTION: Notice of a public meeting.

SUMMARY: The New England Fishery Management Council's Habitat Oversight Committee will meet in February 2005. Recommendations from the Committee will be brought to the full Council for formal consideration and action, if appropriate. Agenda topics can be found in the SUPPLEMENTARY INFORMATION section of this notice.

DATES: The meeting will held on Wednesday, February 16, 2005, beginning at 9:30 a.m.

ADDRESSES: The meeting will be held at the Radisson Hotel Plymouth Harbor, 180 Water Street, Plymouth, MA 02360; phone: (508) 747-4900.

Council address: New England Fishery Management Council, 50 Water Street, Newburyport, MA 01950.

FOR FURTHER INFORMATION CONTACT: Paul J. Howard, Executive Director, New England Fishery Management Council; phone: (978) 465-0492.

SUPPLEMENTARY INFORMATION: The Habitat Oversight Committee (Committee) will continue work on elements of the Essential Fish Habitat (EFH) Omnibus Amendment 2 including, but not limited to: progress on improved gear descriptions; a strategy for the prioritization of habitat protection; the Habitat Evaluation Working Group; Habitat Areas of Particular Concern (HAPC) candidate proposals (received to date); and the evaluation of non-fishing impacts on EFH. The Committee will be updated on the planning for Marine Protected Area (MPA) education and outreach workshop(s) to assist the Council develop its MPA policy. Final preparation of a public comment letter on the Cape Wind Draft Environmental Impact Statement is also on the agenda. Other topics will be discussed at the Committee's discretion.

The Committee will meet jointly with the Habitat Plan Development Team and the Chair and Vice-Chair of the Habitat Advisory Panel in the afternoon to continue work on a strategy for the prioritization of habitat protection.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least five days prior to the meeting dates.

Dated: January 19, 2005.
Emily Menashes,
Acting Director, Office of Sustainable Fisheries, National Marine Fisheries Service.

[FR Doc. 05-1340 Filed 1-25-05; 8:45 am]

BILLING CODE 3510-22-S